DEPARTMENT OF COMMERCE

National Oceanic and Atmospheric Administration

RIN 0648-XE319

South Atlantic Fishery Management Council; Public Meeting

AGENCY: National Marine Fisheries Service (NMFS), National Oceanic and Atmospheric Administration (NOAA), Commerce.

ACTION: Meeting of the South Atlantic Fishery Management Council (SAFMC).

SUMMARY: The South Atlantic Fishery Management Council (Council) will hold meetings of the: Personnel Committee (Closed Session); Southeast Data, Assessment and Review (SEDAR) Committee; Habitat Protection and Ecosystem-Based Management Committee; Snapper Grouper Committee; Scientific and Statistical Committee (SSC) Selection Committee (Closed Session); Information and Education Committee; King and Spanish Mackerel Committee; Data Collection Committee; Dolphin Wahoo Committee; Spiny Lobster Committee; Protected Resources Committee; Executive Finance Committee; and a meeting of the Full Council. The Council will also hold a Council Member Visioning Workshop for the Snapper Grouper Fishery. The Council will take action as necessary. The Council will also hold a formal public comment session.

DATES: The Council meeting will be held from 8 a.m. on Monday, December 7, 2015 until 3:30 p.m. on Friday, December 11, 2015.

ADDRESSES:

Meeting address: The meeting will be held at the Doubletree by Hilton, 2717 W. Fort Macon Raod, Atlantic Beach, NC 28512; phone: 800/222-8733 or 252/240-1155; fax 252/222-4065.

Council address: South Atlantic Fishery Management Council, 4055 Faber Place Drive, Suite 201, N. Charleston, SC 29405.

FOR FURTHER INFORMATION CONTACT: Kim Iverson, Public Information Officer, SAFMC; phone: (843) 571-4366 or toll free: (866) SAFMC-10; fax: (843) 769-4520; email: kim.iverson@safmc.net.

SUPPLEMENTARY INFORMATION:

The items of discussion in the individual meeting agendas are as follows:

Council Member Visioning Workshop, Monday, December 7, 2015, 8 a.m. until 10:15 a.m.

Council members will receive a recap of the October 2015 Council Visioning Workshop, review and approve the Vision Blueprint for the snapper grouper fishery, review the Evaluation Plan for the Vision Blueprint, and review/develop approaches for applying the blueprint.

Personnel Committee, Monday, December 7, 2015, 10:15 a.m. until 6 p.m. (Closed Session)

The Committee will conduct interviews and provide recommendations for hiring a new Executive Director for the Council. Note: all Council members will participate in this Committee meeting.

SEDAR Committee, Tuesday, December 8, 2015, 8 a.m. until 9:30 a.m.

1. The Committee will receive updates on SEDAR activities, review the SEDAR Steering Committee report and provide guidance as appropriate.

2. The Committee will receive a presentation on NOAA Fisheries Assessment Prioritization, and discuss and provide guidance for application to Council stocks and SEDAR.

Habitat Protection and Ecosystem-Based Management Committee, Tuesday, December 8, 2015, 9:30 a.m. until 12 p.m.

1. The Committee will receive a report from the Habitat Advisory Panel and an overview of the redrafted Essential Fish Habitat (EFH) Policy on Energy Exploration, Development and Transportation and provide recommendations as appropriate.

2. The Committee will receive an overview of the Fishery Ecosystem Plan II Development, EFH Updates and Regional Ecosystem Coordination, a presentation on Lenfest Fisheries Ecosystem Task Force Activities and provide recommendations as appropriate.

Snapper Grouper Committee, Tuesday, December 8, 2015, 1:30 p.m. until 5:30 p.m. and Wednesday, December 9, 2015 from 8:30 a.m. until 5:30 p.m.

1. The Committee will receive an update on the status of commercial and recreational catches versus quota for species under Annual Catch Limits (ACLs) and an update of actions currently under formal review by NOAA Fisheries.

2. The Committee will receive a report from the Council's Scientific and Statistical Committee (SSC) and the Snapper Grouper Advisory Panel.

3. The Committee will receive an overview of Snapper Grouper Regulatory Amendment 16 addressing modifications of the current seasonal closure of the commercial black sea bass pot fishery, modify the document as appropriate and provide recommendations for approving the amendment for Secretarial Review.

4. The Committee will review Snapper Grouper Amendment 37 addressing measures for hogfish, discuss and modify the document as appropriate, select preferred management alternatives, and recommend approval for public hearing.

5. The Committee will receive a report on a study on blueline tilefish stock identification, discuss management options and provide direction to staff.

6. The Committee will review Snapper Grouper Regulatory Amendment 25 addressing management measures for blueline tilefish, yellowtail snapper, and black sea bass, consider public hearing input, modify the document as appropriate, select preferred alternatives, and provide recommendations for approval for Secretarial Review.

7. The Committee will review Snapper Grouper Amendment 41 addressing management measures for mutton snapper, modify the document as appropriate and provide recommendations for approval of the draft amendment for public scoping.

8. The Committee will review Snapper Grouper Amendment 36 to establish Spawning Special Management Zones (SMZs), modify the document as necessary, select remaining preferred alternatives and approve all actions.

9. The Committee will receive an overview of the System Management Plan for Deepwater Marine Protected Areas established in Snapper Grouper Amendment 14, modify the document as necessary and provide recommendations for approval.

10. The Committee will receive an overview of management for red snapper, discuss management approaches and timing for addressing red snapper and provide direction to staff. The Committee will also discuss approaches to monitor recreational harvest of deepwater species and provide direction to staff.

Formal Public Comment, Wednesday, December 9, 2015, 5:30 p.m.—Public comment will first be accepted on items before the Council for final action: Snapper Grouper Regulatory Amendment 16 (removal of the black sea bass pot closure) and Snapper Grouper Regulatory Amendment 25 (blueline tilefish, yellowtail snapper and black sea bass). Public comment will then be accepted on any other items on the Council agenda. The Council Chair, based on the number of individuals wishing to comment, will determine the amount of time provided to each commenter.

SSC Selection Committee, Thursday, December 10, 2015, 8 a.m. until 8:30 a.m. (Closed Session)

The Committee will review applications and provide recommendations for appointment, and consider designating Social and Economic Scientist specific seats on the SSC.

Information and Education Committee, Thursday, December 10, 2015, 8:30 a.m. until 9 a.m.

The Committee will receive a report from the Information and Education Advisory Panel and provide recommendations as appropriate.

King and Spanish Mackerel Committee, Thursday, December 10, 2015, 9 a.m. until 10:30 a.m.

1. The Committee will receive updates on the status of recreational and commercial catches versus ACLs.

2. The Committee will receive an overview of the decision document for Amendment 26 to the Coastal Migratory Pelagics Fishery Management Plan, modify the document as appropriate, select preferred alternatives and provide recommendations for approval for public hearings.

Data Collection Committee, Thursday, December 10, 2015, 10:30 a.m. until 12 p.m.

1. The Committee will receive an update on the Commercial Logbook Pilot Study and the Implementation Plan for Commercial Logbook Reporting, discuss and take action as appropriate.

2. The Committee will receive an overview of the South Atlantic For-Hire Reporting Amendment Decision Document, modify as appropriate, select preferred alternatives and provide recommendations for approval for public hearings. The Committee will also receive an update on the agenda for the upcoming Citizen Science Workshop, discuss, and take action as appropriate.

Dolphin Wahoo Committee, Thursday, December 10, 2015, 1:30 p.m. until 3 p.m.

1. The Committee will receive updates on the status of recreational and commercial catches versus ACLs for dolphin and wahoo.

2. The Committee will receive an update on the status of amendments under review and an overview of Regulatory Amendment 1 to the Dolphin Wahoo FMP to establish a commercial trip limit for the dolphin fishery in federal waters off the Atlantic coast. The Committee will review the document as appropriate, select preferred alternatives and provide recommendations as appropriate.

3. The Committee will discuss actions to include in draft Amendment 10 to the Dolphin Wahoo FMP and provide direction to staff.

Spiny Lobster Committee, Thursday, December 10, 2015, 3 p.m. until 4 p.m.

1. The Committee will receive updates on the status of recreational and commercial catches versus ACLs for spiny lobster.

2. The Committee will review spiny lobster landings for 2014-2015, a notification from NOAA Fisheries regarding spiny lobster landings, and landings from pervious years, discuss landings and take action as necessary. The Committee will also discuss the need for a joint meeting of the Spiny Lobster Advisory Panels from both the South Atlantic and Gulf of Mexico Fishery Management Councils and provide direction to staff.

Protected Resources Committee, Thursday, December 10, 2015, 4 p.m. until 5 p.m.

1. The Committee will receive updates on protected resources related issues from NOAA Fisheries

2. The Committee will review the compliance policy for turtle excluder devices in the Southeast shrimp fishery, the status of the Endangered Species Act/Magnuson-Stevens Fishery Conservation and Management Act Integration Agreement, and receive an update from the U.S. Fish & Wildlife Service on protected resources related issues.

Executive Finance Committee, Thursday, December 10, 2015, 5 p.m. until 6 p.m.

1. The Committee will review the Calendar Year 2015 budget expenditures, Council Activities and Accomplishments during 2015, review the Council Follow-up and priorities, and provide recommendations as appropriate.

2. The Committee will discuss standards and procedures for participating in Council webinar meetings, the concept of participating with the other Regional Fishery Management Councils in supporting a representative to look out for Council interests and to keep the Council informed, and address other issues as appropriate.

Council Session: Friday, December 11, 2015 8 a.m. until 3:30 p.m.

8-8:15 a.m.: Call the meeting to order, adopt the agenda, and approve the September 2015 meeting minutes.

8:15-9:15 a.m.: The Council will receive a report from the Snapper Grouper Committee, and approve/disapprove Snapper Grouper Regulatory Amendment 16 (removal of the black sea bass pots season) for formal Secretarial Review; approve/disapprove Snapper Grouper Regulatory Amendment 25 (blueline tilefish, yellowtail snapper and black sea bass) for formal Secretarial Review; approve/disapprove all actions in Snapper Grouper Amendment 36 (Spawning SMZs); approve/disapprove Snapper Grouper Amendment 37 (hogfish) for public hearing; and approve/disapprove Snapper Grouper Amendment 41 (mutton snapper) for public scoping. The Council will consider other recommendations and take action as appropriate.

9:15-9:30 a.m.: The Council will receive a report from the Mackerel Committee, approve/disapprove Amendment 26 to the Coastal Migratory Pelagics FMP for public hearings, consider other Committee recommendations, and take action as appropriate.

9:30-9:45 a.m.: The Council will receive a Council Member Visioning Workshop report, approve/disapprove the Vision Blueprint for the Snapper Grouper Fishery, approve/disapprove the Evaluation Plan for the Vision Blueprint, consider other Committee recommendations, and take action as appropriate.

9:45-10 a.m.: The Council will receive a report from the Habitat Protection and Ecosystem-Based Management Committee, consider committee recommendations, and take action as appropriate.

10-10:15 a.m.: The Council will receive a report from the Protected Resources Committee, consider recommendations and take action as appropriate.

10:15-10:45 a.m.: The Council will receive a report from the SEDAR Committee, consider Committee recommendations and take action as appropriate.

10:45-11 a.m.: The Council will receive a report from the Executive Finance Committee, approve the Council Follow-Up and Priorities, consider other Committee recommendations and take action as appropriate.

11-11:15 a.m.: The Council will receive a report from the Dolphin Wahoo Committee, consider committee recommendations and take action as appropriate.

11:15-11:30 a.m.: The Council will receive a report from the Data Collection Committee, approve/disapprove the South Atlantic For-Hire Reporting Amendment for public hearings, consider other Committee recommendations and take action as appropriate.

11:30 a.m.-11:45 a.m.: The Council will receive a report from the Spiny Lobster Committee, consider Committee recommendations and take action as appropriate.

11:45-12 p.m.: The Council will receive a report from the SSC Selection Committee, consider Committee recommendations and take action as appropriate.

1:30-1:45 p.m.: The Council will receive a report from the Information and Education Committee, consider Committee recommendations and take action as appropriate.

1:45-3:30 p.m.: The Council will receive status reports from NOAA Fisheries Southeast Regional Office and the Southeast Fisheries Science Center; review and develop recommendations on Experimental Fishing Permits as necessary; receive agency and liaison reports; and discuss other business and upcoming meetings.

Documents regarding these issues are available from the Council office (see ADDRESSES).

Although non-emergency issues not contained in this agenda may come before this group for discussion, those issues may not be the subject of formal action during these meetings. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. Requests for auxiliary aids should be directed to the council office (see ADDRESSES) 3 days prior to the meeting.

Note: The times and sequence specified in this agenda are subject to change.

Authority: 16 U.S.C. 1801 et seq.

Dated: November 16, 2015.
Tracey L. Thompson,
Acting Deputy Director, Office of Sustainable Fisheries, National Marine Fisheries Service.

[FR Doc. 2015-29560 Filed 11-18-15; 8:45 am]

BILLING CODE 3510-22-P